DEPARTMENT OF COMMERCE

Foreign-Trade Zones Board

[B-75-2017]

Proposed Reestablishment and Expansion of Site—Foreign-Trade Zone 276 Kern County, California

Pursuant to the provisions of the Foreign-Trade Zones (FTZ) Act, as amended (19 U.S.C. 81a-81u), and the regulations of the FTZ Board (15 CFR part 400), an application has been submitted to the FTZ Board by Kern County, grantee of Foreign-Trade Zone 276, requesting to reestablish the zone adjacent to the Los Angeles/Long Beach U.S. Customs and Border Protection port of entry. The reestablished zone would be comprised of previously approved Site 2, which the application proposes to expand.

FTZ 276 was initially approved on January 19, 2010, as a new zone adjacent to the Meadows Field user-fee airport (Board Order 1653, 75 FR 8920-8921, February 26, 2010). A user-fee airport may serve as a port of entry for purposes of establishing, operating and maintaining a FTZ pursuant to the FTZ Board's regulations (see 15 CFR 400.2(m)). The grantee now proposes to reestablish the zone as an additional zone adjacent to the Los Angeles/Long Beach U.S. Customs and Border Protection port of entry. The reestablished zone would be comprised of Site 2—within the Tejon Ranch Commerce Center, located at the intersection of Interstate 5 and Highway 99, Lebec, California—which the application proposes to expand from 247 to 1,093 acres.

The application was formally docketed on November 21, 2017. The applicant is authorized to make the proposal under the California Government Code, Sections 6300-6305. The application indicates a need for expanded zone designation within the Tejon Ranch Commerce Center. Specific manufacturing approvals are not being sought at this time. Such requests would be made to the FTZ Board on a case-by-case basis.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary at the address below. The closing period for their receipt is January 8, 2018. Rebuttal comments in response to material submitted during the foregoing period may be submitted during the subsequent 15-day period to January 22, 2018.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Christopher Kemp at Christopher.Kemp@trade.gov or (202) 482-0862.

Dated: November 21, 2017.
Andrew McGilvray,
Executive Secretary.

[FR Doc. 2017-25655 Filed 11-27-17; 8:45 am]

BILLING CODE 3510-DS-P